DEPARTMENT OF THE INTERIOR

Minerals Management Service

MMS Information Collection Activities: 1010-0082 (30 CFR 282), Submitted for Office of Management and Budget (OMB) Review; Comment Request

AGENCY: Minerals Management Service (MMS), Interior.

ACTION: Notice of a reinstatement of an information collection (1010-0081).

SUMMARY: To comply with the Paperwork Reduction Act of 1995 (PRA), we are notifying the public that we have submitted to OMB an information collection request (ICR) to renew approval of the paperwork requirements in the regulations under 30 CFR 282, Operations in the Outer Continental Shelf for Minerals Other than Oil, Gas, and Sulphur. This notice also provides the public a second opportunity to comment on the paperwork burden of these regulatory requirements.

DATES: Submit written comments by January 11, 2008.

ADDRESSES: You may submit comments either by fax (202) 395-6566 or e-mail (OIRA_DOCKET@omb.eop.gov) directly to the Office of Information and Regulatory Affairs, OMB, Attention: Desk Officer for the Department of the Interior (1010-0081). Mail or hand carry a copy of your comments to the Department of the Interior; Minerals Management Service; Attention: Cheryl Blundon; Mail Stop 4024; 381 Elden Street; Herndon, Virginia 20170-4817. If you wish to e-mail your comments to MMS, the address is: rules.comments@mms.gov. Reference Information Collection 1010-0081 in your subject line and mark your message for return receipt. Include your name and return address in your message text.

FOR FURTHER INFORMATION CONTACT: Cheryl Blundon, Regulations and Standards Branch, (703) 787-1607. You may also contact Cheryl Blundon to obtain a copy, at no cost, of the regulations that require the subject collection of information.

SUPPLEMENTARY INFORMATION: Title: 30 CFR 282, Operations in the Outer Continental Shelf for Minerals Other than Oil, Gas, and Sulphur.

OMB Control Number: 1010-0081.

Abstract: The Outer Continental Shelf (OCS) Lands Act, as amended (43 U.S.C. 1334 and 43 U.S.C. 1337(k)), authorizes the Secretary of the Interior (Secretary) to implement regulations to grant to the qualified persons, offering the highest cash bonus on a basis of competitive bidding, leases of any mineral other than oil, gas, and sulphur. This applies to any area of the Outer Continental Shelf not then under lease for such mineral upon such royalty, rental, and other terms and conditions as the Secretary may prescribe at the time of offering the area for lease. This regulation governs mining operations within the OCS for minerals other than oil, gas and sulphur and establishes a comprehensive leasing and regulatory program for such minerals. These regulations have been designed to (1) recognize the differences between the OCS activities associated with oil, gas, and sulphur discovery and development, and those associated with the discovery and development of other minerals; (2) facilitate participation by States directly affected by OCS mining activities; (3) provide opportunities for consultation and coordination with other OCS users and uses; (4) balance development with environmental protection; (5) insure a fair return to the public; (6) preserve and maintain free enterprise competition; and (7) encourage the development of new technology.

Regulations implementing these responsibilities are under 30 CFR part 282. Responses are mandatory. No questions of a “sensitive” nature are asked. We protect proprietary information according to the Freedom of Information Act (5 U.S.C. 552) and its implementing regulations (43 CFR 2), and 30 CFR 282.5, 282.6, and 282.7 and applicable sections of 30 CFR parts 280 and 281.

The MMS would use the information required by 30 CFR 282 to determine if lessees are complying with the regulations that implement the mining operations program for minerals other than oil, gas, and sulphur. Specifically, MMS would use the information:

• To ensure that operations for the production of minerals other than oil, gas, and sulphur in the OCS are conducted in a manner that will result in orderly resource recovery, development, and the protection of the human, marine, and coastal environments.

• To ensure that adequate measures will be taken during operations to prevent waste, conserve the natural resources of the OCS, and to protect the environment, human life, and correlative rights.

• To determine if suspensions of activities are in the national interest, to facilitate proper development of a lease including reasonable time to develop a mine and construct its supporting facilities, or to allow for the construction or negotiation for use of transportation facilities.

• To identify and evaluate the cause(s) of a hazard(s) generating a suspension, the potential damage from a hazard(s) and the measures available to mitigate the potential for damage.

• For technical and environmental evaluations which provide a basis for MMS to make informed decisions to approve, disapprove, or require modification of the proposed activities.

There has been no activity in the OCS for minerals other than oil, gas, and sulphur for many years and no information collected since we allowed the OMB approval to expire in 1991. However, because these are regulatory requirements, the potential exists for information to be collected and we are requesting that OMB reinstate this collection of information.

Frequency: Monthly, and as a result of situations encountered.

Estimated Number and Description of Respondents: There are no active respondents; therefore, we estimated the potential annual number of respondents to be one.

Estimated Reporting and Recordkeeping “Hour” Burden: The estimated annual hour burden for this information collection is a total of 201 hours. The following chart details the individual components and estimated hour burdens. In calculating the burdens, we assumed that respondents perform certain requirements in the normal course of their activities. We consider these to be usual and customary and took that into account in estimating the burden.

Citation 30 CFR 282 | Reporting or recordkeeping requirement | Non-hour cost burden: Hour burden | Non-hour cost burden: Average nunber of annual responses | Non-hour cost burden: Annual burden hours
Subpart A—General
4(b); 12(b)(2)(ii); 12(f)(l), (2); 13(d), (e)(2); 21; 22; 25; 26; 28 | Submit delineation plan, including environmental information, contingency plan, monitoring program, and various requests for approval referred to throughout; submit modifications | 40 | 1 | 40
4(c); 12(c)(2)(ii); 12(f)(l), (2); 13(d), (e)(2); 21; 23; 25; 26; 28 | Submit testing delineation plan, including environmental information, contingency plan, monitoring program, and various requests for approval referred to throughout; submit modifications | 40 | 1 | 40
4(d); 12(d)(2)(ii); 12(f)(1), (2); 13(d), (e)(2); 21; 24; 25; 26; 28 | Submit mining delineation plan, including environmental information, contingency plan, monitoring program, and various requests for approval referred to throughout; submit modifications | 40 | 1 | 40
5 | Request non-disclosure of G&G info | 10 | 1 | 10
Subtotal | 4 | 130
Subpart B—Jurisdiction and Responsibilities of Director
11(c); 12(c) | Apply for right-of-use and easement | 30 | 1 | 30
11(d); 12(d) | Request consolidation of two or more OCS mineral leases or portions | 1 | 1 | 1
12(f)(1), (h); 20(g), (h) | Request approval of operations or departure from operating requirements | Burden included with applicable operation |  | 0
13(b), (f)(2); 31 | Request suspension or temporary prohibition or production or operations | 2 | 1 | 2
13(e)(1) | Submit site-specific study plan and results; request payment | 8 | 1 | 8
|  | 1 study × $100,000 = $100,000
14 | Submit “green” response copy of Form MMS-1832 indicating date violations (INCs) corrected | 2 | 1 | 2
Subtotal | 5 | 43
Subpart C—Obligations and Responsibilities of Lessees
20(a), (g); 29(i) | Make available all mineral resource or environmental data and information; submit reports and maintain records | Burden included with applicable operation |  | 0
20(b) thru (e) | Submit designation of payor, operator, or local representative; submit changes | 1 | 1 | 1
21(d) | Notify MMS of preliminary activities | 1 | 1 | 1
27(b) | Request use of new or alternative technologies, techniques, etc | 1 | 1 | 1
27(c) | Notify MMS of death or serious injury; fire, exploration, or other hazardous event; submit report | 1 | 1 | 1
27(d)(2) | Request reimbursement for furnishing food, quarters, and transportation for MMS representatives (OCS Lands Act specifies reimbursement; no requests received in many years; minimal burden) | 2 | 1 | 2
27(e) | Identify vessels, platforms, structures, etc. with signs | 1 | 1 | 1
27(f)(2) | Log all drill holes susceptible to logging; submit copies of logs to MMS | 3 | 1 | 3
27(h)(3), (4) | Mark equipment; record items lost overboard; notify MMS | 1 | 1 | 1
29(a) | Submit monthly report of minerals produced | 1 | 1 | 1
29(b), (c) | Submit quarterly status and final report on exploration and/or testing activities | 5 | 1 | 5
29(d) | Submit results of environmental monitoring activities | 5 | 1 | 5
29(e) | Submit marked and certified maps annually or as required | 1 | 1 | 1
29(f) | Maintain rock, minerals, and core samples for 5 years and make available upon request | 1 | 1 | 1
29(g) | Maintain original data and information and navigation tapes as long as lease is in effect and make available upon request | 1 | 1 | 1
29(h) | Maintain hard mineral records and make available upon request | 1 | 1 | 1
Subtotal | 15 | 26
Subpart D—Payments
40 | Submit surety or personal bond | 2 | 1 | 2
Subpart E—Appeals
50; 15 | File an appeal | Burden exempt under 5 CFR 1320.4(a)(2), (c) |  | 0
Total Burden | 25 | Hour
| $100,000 Non-Hour Cost Burden

Estimated Reporting and Recordkeeping “Non-Hour Cost” Burden: We have identified one cost burden; § 282.13(e)(1), would require a site-specific study to determine and evaluate hazards that result in a suspension of operation. Since a study has never been done previously, MMS estimates that this study would cost approximately $100,000. There are no other non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on August 8, 2007, we published a Federal Register notice (72 FR 44570) announcing that we would submit this ICR to OMB for approval. The notice provided the required 60-day comment period. In addition, § 282.0 provides the OMB control number for the information collection requirements imposed by the 30 CFR 282 regulations. The PRA (5 U.S.C. 1320) informs the public that they may comment at any time on the collection of information and MMS provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by January 11, 2008.

Public Availability of Comments: Before including your address, phone number, email address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: October 12, 2007.
E.P. Danenberger,
Chief, Office of Offshore Regulatory Programs.

[FR Doc. E7-23991 Filed 12-11-07; 8:45 am]

BILLING CODE 4310-MR-P